DEPARTMENT OF LABOR

Employment and Training Administration

[TA-W-56,274]

Shane-Hunter, Inc., San Francisco, CA; Notice of Affirmative Determination Regarding Application for Reconsideration

By letter dated March 3, 2005, petitioners requested administrative reconsideration of the Department's Notice of Negative Determination Regarding Eligibility to Apply for Worker Adjustment Assistance, applicable to workers of the subject firm. The Department's determination was signed on February 2, 2005 and published in the Federal Register on March 9, 2005 (70 FR 11703).

The petitioner asserts that the subject firm shifted garment production abroad and is increasing reliance upon imports.

The Department has carefully reviewed the petitioner's request for reconsideration and has determined that the Department will conduct further investigation based on new information provided by the petitioner and the company official.

Conclusion

After careful review of the application, I conclude that the claim is of sufficient weight to justify reconsideration of the Department of Labor's prior decision. The application is, therefore, granted.

Signed at Washington, DC, this 15th day of March 2005.
Elliott S. Kushner,
Certifying Officer, Division of Trade Adjustment Assistance.

[FR Doc. E5-1356 Filed 3-25-05; 8:45 am]

BILLING CODE 4510-30-P